DEPARTMENT OF JUSTICE

National Institute of Corrections

Advisory Board Meeting

Time and Date: 8 a.m. to 4:30 p.m. on Monday, February 25, 2008. 8 a.m. to 4:30 p.m. on Tuesday, February 26, 2008.

Place: National Institute of Corrections, 500 First Street, NW., 7th floor, Washington, DC 20534, Phone (202) 307-3106.

Status: Open.

Matters to be Considered: Presentation of Needs Assessment; Report on Norval Morris Project; Agency Reports; Quarterly Report by Office of Justice Programs; U.S. Parole Commission; American Corrections Association; Federal Judicial Center.

Contact Person for More Information: Thomas Beauclair, Deputy Director, 202-307-3106, ext. 44254.

Morris L. Thigpen,
Director.

[FR Doc. 08-534 Filed 2-6-08; 8:45 am]

BILLING CODE 4410-36-M